DEPARTMENT OF LABOR

Employment and Training Administration

[TA-W-55,907]

GlaxoSmithKline Bristol, TN; Notice of Revised Determination on Reconsideration

On February 23, 2005, the Department issued an Affirmative Determination Regarding Application on Reconsideration applicable to workers and former workers of the subject firm. The notice was published in the Federal Register on March 15, 2005 (70 FR 12737).

The previous investigation initiated on November 7, 2004, resulted in a negative determination issued on December 9, 2004, based on the finding that imports of Augmentin and Amoxil did not contribute importantly to worker separations at the subject firm and no shift of production to a foreign source occurred. The denial notice was published in the Federal Register on January 24, 2005 (70 FR 3390).

In the request for reconsideration, the petitioner provided additional information regarding subject firm's products. In particular, it was revealed that Augmentin and Amoxil, addressed by the company official during the original investigation as products manufactured at GlaxoSmithKline in Bristol, Tennessee, are brand names of penicillin-based antibiotics. It was further revealed that other companies manufacture antibiotics equivalent to Augmentin and Amoxil, but use different generic names for these products. Therefore, surveys of customers conducted during the original investigation did not reveal purchases from any sources other than the subject firm.

The Department conducted new customer surveys requesting information on purchases of penicillin-based antibiotics like or directly competitive with Augmentin and Amoxil. The result of this survey showed that the largest declining customer of the subject firm significantly increased its reliance on purchases of penicillin-based antibiotics like or directly competitive with Augmentin and Amoxil from other domestic firms during the relevant time period. However, the customer had no knowledge of the country of origin of these products.

Upon further investigation, it was revealed that GlaxoSmithKline, Bristol, Tennessee is the only domestic manufacturer of Augmentin and Amoxil and their generic equivalents in the United States. All other generic brands sold on the domestic market are imports. Consequently, customers increasing their reliance on purchases from other domestic firms, increased their reliance on imports.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at GlaxoSmithKline, Bristol, Tennessee, contributed importantly to the declines in sales or production and to the total or partial separation of workers at the subject firm. In accordance with the provisions of the Act, I make the following certification:

All workers of GlaxoSmithKline, Bristol, Tennessee, who became totally or partially separated from employment on or after October 11, 2003 through two years from the date of this certification, are eligible to apply for adjustment assistance under Section 223 of the Trade Act of 1974, and are eligible to apply for alternative trade adjustment assistance under Section 246 of the Trade Act of 1974.

Signed in Washington, DC this 8th day of April 2005.
Elliott S. Kushner,
Certifying Officer, Division of Trade Adjustment Assistance.

[FR Doc. E5-1939 Filed 4-22-05; 8:45 am]

BILLING CODE 4510-30-P